DEPARTMENT OF COMMERCE

International Trade Administration

[A-570-898]

Chlorinated Isocyanurates from the People's Republic of China: Final Results of Antidumping Duty Administrative Review

AGENCY: Import Administration, International Trade Administration, Department of Commerce.

SUMMARY: The Department of Commerce (“the Department”) is conducting an administrative review of the antidumping duty order on chlorinated isocyanurates (“chlorinated isos”) from the People's Republic of China (“PRC”) covering the period December 16, 2004, through May 31, 2006. We invited interested parties to comment on our preliminary results. Based on our analysis of the comments received, we have made changes to our margin calculations. Therefore, the final results differ from the preliminary results.

EFFECTIVE DATE: January 2, 2008.

FOR FURTHER INFORMATION CONTACT: Katharine Huang or Charles Riggle, AD/CVD Operations, Office 8, Import Administration, International Trade Administration, U.S. Department of Commerce, 14th Street and Constitution Avenue, NW, Washington, DC 20230; telephone: (202) 482-1271 or (202) 482-0650, respectively.

Background

On July 17, 2007, the Department published its preliminary results of the antidumping duty order on chlorinated isocyanurates from the PRC. See Chlorinated Isocyanurates from the People's Republic of China: Preliminary Results of Antidumping Duty Administrative Review, 72 FR 39053 (July 17, 2007) (“Preliminary Results”). On August 7, 2007, Clearon Corporation (“Clearon”) and Occidental Chemical Corporation (“Petitioners”), petitioners in the underlying investigation, provided additional information on the appropriate surrogate values to use as a means of valuing the factors of production. On the same date, Petitioners and BioLab, Inc. (“BioLab”), a domestic producer of the like product, requested an extension of the briefing schedule. On August 15, 2007, we granted this request to all interested parties. On August 16, 2007, the Department received a request for a hearing from BioLab. On September 7, 2007, the Department received case briefs from Petitioners and BioLab, and from respondent Hebei Jiheng Chemical Company Ltd. (“Jiheng Chemical”). On September 13, 2007, the Department received rebuttal briefs from Petitioners, BioLab and Jiheng Chemical. On September 27, 2007, the Department held public and closed hearings. On October 24, 2007, Department officials met with counsel for Petitioners. On November 1, 2007, Department officials met with counsel for Jiheng Chemical. On November 13, 2007, Department officials met with counsel for BioLab. On November 14, 2007, the Department extended the time period for completion of the final results until December 14, 2007. See Chlorinated Isocyanurates from the People's Republic of China: Notice of Extension of Time Limit for the Final Results of the Antidumping Duty Administrative Review, 72 FR 65563 (November 21, 2007).

We have conducted this administrative review in accordance with section 751 of the Tariff act of 1930, as amended (“the Act”) and 19 CFR 351.213.

Scope of the Order

The products covered by this order are chlorinated isocyanurates, as described below: Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Analysis of Comments Received

All issues raised in the post-preliminary comments by parties in this review are addressed in the memorandum from Stephen J. Claeys, Deputy Assistant Secretary for Import Administration, to David M. Spooner, Assistant Secretary for Import Administration, “Issues and Decision Memorandum for the 2004-2006 Administrative Review of Chlorinated Isocyanurates from the People's Republic of China” (December 14, 2007) (“Issues and Decision Memorandum”), which is hereby adopted by this notice. A list of the issues that parties raised and to which we responded in the Issues and Decision Memorandum is attached to this notice as an appendix. The Issues and Decision Memorandum is a public document and is on file in the Central Records Unit (“CRU”) in room B-099 in the main Commerce Department building, and is also accessible on the Web at http://ia.ita.doc.gov/frn. The paper copy and electronic version of the memorandum are identical in content.

Changes Since the Preliminary Results

Based on our analysis of comments received, we have made changes in the margin calculations for Jiheng Chemical. See Issues and Decision Memorandum, at Comments 1-18.

• We revised the calculation of normal value (“NV”) to eliminate Jiheng Chemical's by-product credits for discharged chlorine gas, hydrogen gas, sulfuric acid and ammonia gas. See Comment 15.

• We revised the calculation of international ocean freight to include the relevant itemized charges. See Comment 8.

• We revised the calculation of surrogate financial ratios using only financial statements for Kanoria Chemicals & Industries Limited. See Comment 10.

• We corrected errors in calculating U.S. Net price. See Comments 16 and 17.

Final Results of Review

We determined that the following dumping margins exist for the period December 16, 2004, through May 31, 2006.

Exporter/Manufacturer | Weighted-Average Margin Percentage
Jiheng Chemical | 18.44

Assessment Rates

The Department intends to issue assessment instructions to U.S. Customs and Border Protection (“CBP”) 15 days after the date of publication of these final results of review. In accordance with 19 CFR 351.212(b)(1), we have calculated importer-specific assessment rates for merchandise subject to this review.

Cash Deposit Requirements

The following deposit requirements will be effective upon publication of this notice of final results of administrative review for all shipments of the subject merchandise entered, or withdrawn from warehouse, for consumption on or after the date of publication, as provided by section 751(a)(2)(C) of the Act: (1) for subject merchandise exported by Jiheng Chemical, the cash deposit rate will be 18.44 percent; (2) for previously reviewed or investigated exporters not listed above that have separate rates, the cash-deposit rate will continue to be the exporter-specific rate published for the most recent period; (3) for all PRC exporters of subject merchandise, which have not been found to be entitled to a separate rate, the cash-deposit rate will be the PRC-wide rate of 285.63 percent; and (4) for all non-PRC exporters of subject merchandise that have not received their own rate, the cash-deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing this determination and notice in accordance with sections 751(a) and 777(i) of the Act.

Dated: December 14, 2007.
Stephen J. Claeys,
Acting Assistant Secretary for Import Administration.

Appendix

List of Comments and Issues in the Issues and Decision Memorandum

Surrogate Values

Comment 1: Surrogate Value for Urea

Comment 2: Surrogate Value for Sodium Chloride (Salt)

Comment 3: Surrogate Value for Ferric Trichloride

Comment 4: Surrogate Value for Water

Comment 5: Surrogate Value for Desiccant

Comment 6: Surrogate Value for Electricity

Comment 7: Surrogate Value for Steam Coal

Comment 8: Surrogate Value for International Ocean Freight

Comment 9: Surrogate Values from Chemical Weekly

Financial Ratios

Comment 10: Eligibility of DCM as Source for Surrogate Financial Ratios

Comment 11: DCM's Expenses for Traded Goods in the Financial Ratio Calculation

Comment 12: Applying Income Offsets in Calculating Financial Ratios

Comment 13: Changes in Stock for DCM and Kanoria's Cost of Materials Calculations

Comment 14: Use of Net Cost in Financial Ratio Calculations

By-Products

Comment 15: Intermediate Input By-Product Offsets for Chlorine Gas, Hydrogen Gas, Sulfuric Acid and Ammonia Gas

A. Chlorine Gas

B. Hydrogen Gas

C. Waste Sulfuric Acid

D. Ammonia Gas

Other Issues

Comment 16: Inclusion of Reimbursement for Certain Materials in U.S. Price

Comment 17: Correct Treatment of a Raw Material not Provided Free of Charge

Comment 18: Zeroing Methodology

[FR Doc. E7-25498 Filed 12-31-07; 8:45 am]

BILLING CODE 3510-DS-S